ENVIRONMENTAL PROTECTION AGENCY

40 CFR Parts 174 and 180

[EPA-HQ-OPP-2019-0041; FRL-9991-14]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before May 20, 2019.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Notice of Filing—Amended Tolerances for Non-Inerts

1. PP 8E8715. (EPA-HQ-OPP-2018-0784). Interregional Research Project No. 4 (IR-4), IR-4 Project Headquarters, Rutgers, The State University of NJ, 500 College Road East, Suite 201 W, Princeton, NJ 08540, requests to amend 40 CFR 180.578 by removing the established tolerances residues of acetamiprid, (1E)-N-[(6-chloro-3-pyridinyl)methyl]-N′-cyano-N-methylethanimidamide, including its metabolites and degradates, in or on the raw agricultural commodities: Vegetable, leafy, except Brassica, group 4 at 3.00 ppm, Brassica, leafy greens, subgroup 5B at 15 ppm, Turnip, greens at 15 ppm, Brassica, head and stem, subgroup 5A at 1.20 ppm, Fruit, stone, group 12, except plum, prune at 1.20 ppm, Plum, prune, fresh at 0.20 ppm, Nut, tree, group 14 at 0.10 ppm, Pistachio at 0.10 ppm, Canola, seed at 0.010 ppm, Mustard, seed at 0.010 ppm, and Cotton, undelinted seed at 0.60 ppm. Contact: RD.

2. PP 8E8724. (EPA-HQ-OPP-2019-0046). Interregional Research Project Number 4 (IR-4), Rutgers, The State University of New Jersey, 500 College Road East, Suite 201 W, Princeton, NJ 08540, requests, upon approval of “New Tolerances for PP 8E8724” listed elsewhere in this document, to amend 40 CFR 180.677 by revising or removing the existing tolerances for residues of the insecticide cyflumetofen, 2-methoxyethyl α-cyano-α-[4-(1,1-dimethylethyl)phenyl]-β-oxo-2-(trifluoromethyl)benzenepropanoate, including its metabolites and degradates, to be determined by measuring only cyflumetofen, in or on the agricultural commodities: Strawberry at 0.60 parts per million (ppm) and Tomato at 0.40 ppm. Contact: RD.

Notice of Filing—New Tolerance Exemptions for Inerts (Except PIPS)

1. PP IN-11079. (EPA-HQ-OPP-2018-0204). SciReg, Inc. (12733 Director's Loop, Woodbridge, VA 22192) on behalf of Italpollina USA, Inc. (1100 South Tower, 225 Peachtree Street NE, Atlanta, GA 30303), requests to establish an exemption from the requirement of a tolerance for residues of hydrolyzed vegetable proteins (CAS Reg. No. 100209-45-8) when used as a pesticide inert ingredient (pH adjusting agent, surfactant or adhesive) in pesticide formulations applied to growing crops pre-harvest under 40 CFR 180.920. The petitioner believes no analytical method is needed because it is not required for an exemption from the requirement of a tolerance. Contact: RD.

2. PP IN-11238. (EPA-HQ-OPP-2018-0670). Lewis & Harrison, LLC (122 C Street NW, Suite 505, Washington, DC 20001) on behalf of BASF Corporation (100 Park Avenue, Florham Park, NJ 07932), requests to establish an exemption from the requirement of a tolerance for residues of acrylamide-sodium acrylamidomethylpropanesulfonate copolymer (CAS Reg. No. 38193-60-1) when used as a pesticide inert ingredient in pesticide formulations under 40 CFR 180.960. The petitioner believes no analytical method is needed because it is not required for an exemption from the requirement of a tolerance. Contact: RD.

Notice of Filing—New Tolerances for Non-Inerts

1. PP 8E8715. (EPA-HQ-OPP-2018-0784). Interregional Research Project No. 4 (IR-4), IR-4 Project Headquarters, Rutgers, The State University of NJ, 500 College Road East, Suite 201 W, Princeton, NJ 08540, requests to amend 40 CFR part 180 by establishing tolerances for residues of acetamiprid, (1E)-N-[(6-chloro-3-pyridinyl)methyl]-N′-cyano-N-methylethanimidamide, including its metabolites and degradates in or on the raw agricultural commodities: Tropical and subtropical, medium to large fruit, smooth, inedible peel, subgroup 24B at 0.50 parts per million (ppm), Leafy greens subgroup 4-16A at 3.0 ppm, Leaf petiole vegetable subgroup 22B at 3.0 ppm, Celtuce at 3.0 ppm, Florence fennel at 3.0 ppm, Brassica, leafy greens, subgroup 4-16B at 15 ppm, Vegetable, Brassica, head and stem, group 5-16 at 1.2 ppm, Kohlrabi at 1.2 ppm, Fruit, stone, group 12-12 at 1.5 ppm, Nut, tree, group 14-12 at 0.10 ppm, Rapeseed subgroup 20A at 0.01 ppm, and Cottonseed subgroup 20C at 0.70 ppm. The analytical method involves extraction of acetamiprid from crop matrices with a solvent followed by a decantation and filtration and finally analysis by a LC/MS/MS method. The limit of quantification (LOQ) was calculated to be 0.01 ppm. Contact: RD.

2. PP 8E8716. (EPA-HQ-OPP-2018-0785). Interregional Research Project No. 4 (IR-4), IR-4 Project Headquarters, Rutgers, The State University of NJ, 500 College Road East, Suite 201 W, Princeton, NJ 08540, requests to amend 40 CFR 180.547 by establishing (c) tolerances with regional registrations in Wisconsin and Pennsylvania for residues of prohexadione calcium (calcium 3-oxido-5-oxo-4-propionylcyclohex-3-enecarboxylate) in or on the raw agricultural commodities Corn, field, forage at 0.10 parts per million (ppm), Corn, field, grain at 0.10 ppm; Corn, field, stover at 0.10 ppm, Alfalfa, forage at 0.10 ppm, and Alfalfa, hay at 0.10 ppm. Adequate enforcement methodology (BASF Analytical Method D9601 and 564/0) is available to enforce the tolerance expression for residues of prohexadione calcium. Contact: RD.

3. PP 8E8724. (EPA-HQ-OPP-2019-0046). Interregional Research Project Number 4 (IR-4), Rutgers, The State University of New Jersey, 500 College Road East, Suite 201W, Princeton, NJ 08540, requests to establish tolerances in 40 CFR part 180 for residues of the insecticide cyflumetofen, 2-methoxyethyl α-cyano-α-[4-(1,1-dimethylethyl)phenyl]-β-oxo-2-(trifluoromethyl)benzenepropanoate, including its metabolites and degradates, to be determined by measuring only cyflumetofen, in or on the agricultural commodities: Cucumber at 0.15 parts per million (ppm), Fruit, stone, group 12-12 at 2.0 ppm, Plume, prune, dried at 0.41 ppm, Strawberry at 0.80 ppm, and Vegetable, fruiting, group 8-10 at 2.0 ppm. The analytical method D1003, “Method for Determination of Residues of Cyflumetofen (BAS 9210 I) and Its Metabolites in Plant Matrices Using Liquid Chromatography, Tandem Mass Spectrometry (LC-MS/MS)” was validated successfully for the analysis of cyflumetofen and its metabolites. The analytical method has a limit of quantitation (LOQ) of 0.01 ppm for residues of cyflumetofen and its metabolites in all matrix types. Contact: RD.

4. PP 8F8696. (EPA-HQ-OPP-2018-0688). Syngenta Crop Protection, LLC, P.O. Box 18300, Greensboro, NC 27419, requests to establish a tolerance in 40 CFR part 180 for residues of the fungicide, pydiflumetofen, in or on Root Vegetable Crop Subgroup 1A at 0.30 parts per million (ppm); Bulb Vegetable Crop Subgroup 3-07A at 0.20 ppm; Bulb Vegetable Crop Subgroup 3-07B at 2 ppm; Brassica Leafy Greens Subgroup 4-16B at 50 ppm; Brassica Head and Stem Crop Group 5-16 at 3 ppm; Leaves of Root and Tuber Vegetables, Crop Group 2 at 15.0 ppm; Edible-podded Legume Vegetable Subgroup 6A at 1.0 ppm; Succulent Shelled Pea and Bean Subgroup 6B at 0.09 ppm; Citrus Fruit Crop Group 10-10 at 0.90 ppm; Citrus oil at 15 ppm; Pome Fruit Crop Group 11-10 at 0.20 ppm; Apple, Wet Pomace at 1.0 ppm; Stone Fruit, Cherry Subgroup 12-12A at 2.0 ppm; Stone Fruit, Peach Subgroup 12-12B at 1.0 ppm; Stone Fruit, Plum Subgroup 12-12C at 0.6 ppm; Plum, Prune at 1.5 ppm; Bushberry Crop Subgroup 13-07B at 5 ppm; Berries, Low Growing Crop Subgroup 13-07G, except cranberry and blueberry, at 1 ppm; Tree Nuts Crop Group 14-12, Nutmeat at 0.05 ppm; Almond Hull at 9.0 ppm; Cottonseed Subgroup 20C, Cotton Undelinted Seed at 0.4 ppm; Cotton Gin By-Products at 7.0 ppm; Sunflower Subgroup 20B at 0.60 ppm; Sorghum grain at 3.0 ppm; Sorghum forage at 1.5 ppm; and Sorghum Stover at 10 ppm. The QuEChERS method is used to measure and evaluate the chemical in plant commodities. Contact: RD.

5. PP 8F8709. (EPA-HQ-OPP-2018-0762). BASF corporation, 26 Davis Drive, P.O. Box 13528, Research Triangle Park, NC 27709, requests to establish a tolerance in 40 CFR part 180 for residues of the herbicide, Trifludimoxazin 1,5-dimethyl-6-thioxo-3-[2,2,7-trifluoro-3-oxo-4-(prop-2-yn-1-yl)-3,4-dihydro-2-1,4-benzoazin-6-yl]-1,3,5-triazinane-2,4-dione, in or on Almond, hulls at 0.15 parts per million (ppm); Fruit, citrus, group 10-10 at 0.01 ppm; Fruit, pome, group 11-10 at 0.01 ppm; Grain, cereal, forage, fodder and straw, group 16 at 0.01 ppm; Grain, cereal, group 15 at 0.01 ppm; Nut, tree, group 14-12 at 0.01 ppm; Peanut at 0.01 ppm; Peanut, hay at 0.01 ppm; Vegetable, foliage of legume, group 07 at 0.01 ppm; and Vegetable, legume, group 06 at 0.01 ppm. An independently validated analytical method is available to measure and evaluate the chemical Trifludimoxazin. Contact: FHB.

Authority: 21 U.S.C. 346a.

Dated: March 19, 2019.
Delores Barber,
Director, Information Technology and Resources Management Division, Office of Pesticide Programs.

[FR Doc. 2019-07840 Filed 4-18-19; 8:45 am]

BILLING CODE 6560-50-P